DEPARTMENT OF HOMELAND SECURITY

United States Secret Service

Agency Information Collection Activities: Proposed Collection; Comment Request

ACTION: Notice of proposed information collection.

SUMMARY: The U.S. Department of Homeland Security, Office of the Chief Information Officer, invites comments on the proposed information collection request as required by the Paperwork Reduction Act of 1995. Currently, the U.S. Secret Service, within the U.S. Department of Homeland Security, is soliciting comments concerning Secret Service Form (SSF) 3237, U.S. Secret Service Facility Access Request.

DATES: Interested persons are invited to submit comments on or before July 18, 2016.

ADDRESSES: Direct all written comments to: Communications Center (SMD), Attn: ATSAIC Jonathan Bryant, 245 Murray Lane SW., Building T5, Washington, DC 20223, (202) 406-6658. Individuals who use a telecommunications device for the deaf (TDD) may either call the Federal Information Relay Service (FIRS) at 1-800-877-8339 or call directly (TTY) 202-406-5390.

FOR FURTHER INFORMATION CONTACT: Requests for additional information or copies of the form(s) and instructions should be directed to: Communications Center (SCD), Attn: ATSAIC Jonathan Bryant, 245 Murray Lane SW., Building T5, Washington, DC 20223. Telephone number: 202-406-6658.

SUPPLEMENTARY INFORMATION: Section 3506 of the Paperwork Reduction Act of 1995 (44 U.S.C. Chapter 35) requires each Federal agency to provide interested Federal agencies and the public an early opportunity to comment on information collection requests. The notice for this proposed information collection contains the following: (1) The name of the component of the U.S. Department of Homeland Security; (2) Type of review requested, e.g., new, revision, extension, existing or reinstatement; (3) OMB Control Number, if applicable; (4) Title; (5) Summary of the collection; (6) Description of the need for, and proposed use of, the information; (7) Respondents and frequency of collection; and (8) Reporting and/or Recordkeeping burden.

The Department of Homeland Security invites public comment.

The Department of Homeland Security is especially interested in public comment addressing the following issues: (1) Is this collection necessary to the proper functions of the Department, including whether the information will have practical utility; (2) Is the estimate of burden for this information collection accurate; (3) How might the Department enhance the quality, utility, and clarity of the information to be collected; and (4) How might the Department minimize the burden of this collection on the respondents, including through the use of information technology.

Abstract: Respondents are primarily Secret Service contractor personnel or non-Secret Service Government employees on official business that require access to Secret Service controlled facilities in performance of official duties. These individuals, if approved for access, will require escorted, unescorted, and staff-like access to Secret Service-controlled facilities. Responses to questions on SSF 3237 yield information necessary for the adjudication of eligibility for facility access.

United States Secret Service

Title: U.S. Secret Service Facility Access Request.

OMB Number: 1620-0002.

Form Number: SSF 3237.

Frequency: Occasionally.

Type of Review: Revision of a currently approved collection.

Affected Public: Individuals or Households/Business.

Estimated Number of Respondents: 5000.

Estimated Time per Respondent: 15 minutes.

Estimated Total Annual Burden Hours: 1250 hours.

Estimated Total Burden Cost (capital/startup): None.

Total Burden Cost (operating/maintaining): None.

Comments submitted in response to this comment request will be summarized and/or included in the request for Office of Management and Budget approval of the information collection request; they will also become a matter of public record.

Dated: May 16, 2016.
Nancy House,
Acting Chief—Policy Analysis and Organizational Development Branch, U.S. Secret Service, Department of Homeland Security.

[FR Doc. 2016-11827 Filed 5-18-16; 8:45 am]

BILLING CODE 4810-42-P